DEPARTMENT OF DEFENSE

Department of the Air Force

Announcement of IS-GPS-800 Interface Control Working Group (ICWG) Meeting

AGENCY: Department of the Air Force.

ACTION: Meeting notice.

SUMMARY: This notice informs the public that the Global Positioning Systems Wing will be hosting a technical working group meeting to discuss the MBOC implementation and bandwidth updates as specified in Draft IS-GPS-800, Navstar GPS Space Segment/Navigation User L1C Interfaces. The discussion will include addressing those comments submitted from the review of the Draft IS-GPS-800. There will also be an Information Only Forum covering future change considerations for IS-GPS-800, IS-GPS-200D and IS-GPS-705.

For those who would like to attend and participate in this ICWG meeting, you are requested to register to attend the meeting by 18 September 2007. Please send the registration to thomas.davis@linquest.com and provide your name, organization, telephone number, address, and country of citizenship. For those who would like to present material related to IS-GPS-800, please submit your presentation material and required length of presentation time to thomas.davis@linquest.com by September 18, 2007. More information, including a preliminary agenda, will be posted at: http://www.losangeles.af.mil/library/factsheets/factsheet.asp?id=9364.

DATES: Tuesday, 25 September 2007: 8:30 a.m.-5 p.m. at Fort Worth Convention Center, Room 110, 1201 Fort Worth, Texas 76102 U.S.A.

FOR FURTHER INFORMATION CONTACT: Thomas Davis, thomas.davis@linquest.com, 1-310-416-8440, or Captain Michael Whiting, Michael.Whiting@losangeles.af.mil, 1-310-653-3944.

Bao-Anh Trinh,
Air Force Federal Register Liaison Officer.

[FR Doc. E7-17958 Filed 9-11-07; 8:45 am]

BILLING CODE 5001-05-P